DEPARTMENT OF THE INTERIOR

National Park Service

[NPS-WASO-NRNHL-17080; PPWOCRADI0, PCU00RP14.R50000]

National Register of Historic Places; Notification of Pending Nominations and Related Actions

Nominations for the following properties being considered for listing or related actions in the National Register were received by the National Park Service before October 25, 2014. Pursuant to section 60.13 of 36 CFR Part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th Floor, Washington, DC 20005; or by fax, 202-371-6447. Written or faxed comments should be submitted by December 1, 2014. Before including your address, phone number, email address, or other personal identifying information in your comment, you should be aware that your entire comment—including your personal identifying information—may be made publicly available at any time. While you can ask us in your comment to withhold your personal identifying information from public review, we cannot guarantee that we will be able to do so.

Dated: October 31, 2014.
J. Paul Loether,
Chief, National Register of Historic Places/National Historic Landmarks Program.

ALABAMA

Jefferson County

Downtown Birmingham Historic District (Boundary Increase III), Portions of 1st, 2nd, 3rd, 4th, 5th, 20th, 22nd, 23rd, 24th & 25th Sts. N., Richard Arrington Jr. Blvd., Birmingham, 14001001

Powell Avenue Steam Plant, 1800 Powell Ave. S., Birmingham, 14001002

Limestone County

Cotton Hill, 23789 Huntsville-Brownsferry Rd. E., Athens, 14001003

Mobile County

Lafayette Heights Historic District, Bounded by Dr. Martin Luther King Jr. & Spring Hill Aves., Rylands & Basil Sts., Mobile, 14001004

Oakdale Historic District, Bounded by I-10, Preston Ave., Virginia & Ann Sts., Mobile, 14001005

IOWA

Kossuth County

Algona Junior and Senior High School Building and High School Building Annex, 213 & 301 S. Harlan St., Algona, 14001006

MICHIGAN

Mason County

Cartier, William A. and Catherine, House, 409 E. Ludington Ave., Ludington, 14001007

Monroe County

Wing—Allore House, 203 E. Elm Ave., Monroe, 14001008

Presque Isle County

ETRURIA (bulk freighter) Shipwreck Site, Address Restricted, Presque Isle, 14001009

M.F. MERRICK (schooner) Shipwreck Site, Address Restricted, Presque Isle, 14001010

Wayne County

Amity Lodge No. 335 Temple—Spiritual Israel Church and Its Army Temple, 9375 Amity St., Detroit, 14001011

NEBRASKA

Buffalo County

Lowe and Fair Commercial Bank, 2001-2003 Central Ave., 10-12 E. Railroad St., Kearney, 14001012

Hall County

Burlington Railroad Depot, 603 N. Plum St., Grand Island, 14001013

Lancaster County

Koop, Amel H., House, 1401 S. 15th St., Lincoln, 14001014

NEW MEXICO

Lincoln County

Hurd, Peter and Henriette Wyeth, House, 129 La Mancha Ln., San Patricio, 14001015

Jimenez, Luis A. and Susan B., House and Studios, Address Restricted, Hondo, 14001016

Los Alamos County

Bandelier National Monument Archeological and Historic District (Boundary Increase), Address Restricted, Los Alamos, 14001017

United States Post Office—Los Alamos, New Mexico, 199 Central Park Sq., Los Alamos, 14001018

NEW YORK

Delaware County

Maxbilt Theatre, 932 Main St., Fleischmanns, 14001019

Niagara County

Niagara Falls School District Administration Building, 607 Walnut St., Niagara Falls, 14001020

Schuyler County

Second Baptist Church of Wayne, 69 NY 230, Wayne, 14001021

NORTH CAROLINA

Ashe County

Cockerham Mill, 1580 Dog Creek Rd. Extension, Crumpler, 14001022

Wake County

Stevens, Wayland H. and Mamie Burt, House, (Wake County MPS) 408 N. Ennis St., Fuquay Varina, 14001023

Tucker, Garland Scott and Toler Moore, House, 418 N. Person St., Raleigh, 14001024

Wachovia Building Company Contemporary Ranch House, (Post-World War II and Modern Architecture in Raleigh, North Carolina 1945-1965 MPS) 823 Bryan St., Raleigh, 14001025

OKLAHOMA

Cleveland County

Union School District 19 1/2, SW. corner of 149th St. & S. Luther Rd., Newalla, 14001026

Muskogee County

Bacone College Historic District, Old Bacone Rd., Muskogee, 14001027

Oklahoma County

Main Street Arcade, 629 W. Main, Oklahoma City, 14001028

Miller's Boulevard Historic District, Bounded by NW. 16th St., W. Park Place, N. May & N. Villa Aves., Oklahoma City, 14001029

Town House Hotel, 627 Northwest 5th St., Oklahoma City, 14001031

Okmulgee County

Kennedy Mansion, 502 S. Okmulgee Ave., Okmulgee, 14001032

Payne County

Oklahoma A and M College Dairy Barn, 2624 W. McElroy Rd., Stillwater, 14001030

Tulsa County

Fox Hotel, 201 W. W.C. Rogers Blvd., Skiatook, 14001033

TENNESSEE

Knox County

Murphy Springs Farm, 4508 Murphy Rd., Knoxville, 14001034

TEXAS

Tarrant County

Sanger Brothers Building, 515 Houston St., Fort Worth, 14001035

VERMONT

Windsor County

Windsor Village Historic District (Boundary Increase II), Along Main & State Sts., Depot Ave., Village Green, Connecticut R., Paradise Park, Windsor, 14001036

A request for removal has been received for the following resource:

IOWA

Linn County

Bertram Bridge, Ely St. over Big Cr., Bertram, 14001006

[FR Doc. 2014-26928 Filed 11-13-14; 8:45 am]

BILLING CODE 4312-51-P